DEPARTMENT OF HEALTH AND HUMAN SERVICES

Centers for Disease Control and Prevention

[60Day-03-115]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Severe Acute Respiratory Syndrome (SARS) Outbreak Investigation (0920-0956)—Extension—National Center for Infectious Diseases (NCID), Centers for Disease Control and Prevention (CDC). The purpose of this project is to prepare for a response to another possible outbreak of Severe Acute Respiratory Syndrome (SARS) in the United States and abroad. In late February 2003, CDC began supporting the World Health Organization (WHO) in the investigation of a multi-country outbreak of atypical pneumonia of unknown etiology. The illness was subsequently named SARS. By March 2003, cases of SARS were reported in the U.S. among travelers with a travel history to one or more of the three provinces in Asia where the SARS outbreak was first reported.

In order to prepare for another potential outbreak of SARS in the U.S. in the upcoming respiratory season, several collections of information may be required. Currently, CDC is collecting this information under a six month emergency clearance. To preserve continuity in the surveillance information collected by public health investigators, CDC is requesting a 3 year extension on the current surveillance forms. The information collected includes contact information for travelers on a flight with a person or persons suspected of having SARS, health care work exposures, and case report forms. There is no cost to the respondent.

Form | Respondent | No. of respondents | No. of responses/ respondent | Avg. burden per response (in hours) | Total burden (in hours)
International SARS Case reports | Caseworker | 500 | 1 | 30/60 | 250
SARS contact information | Airline passengers | 3,000 | 1 | 5/60 | 250
SARS retrospective exposure form | Quarantine inspector | 1,000 | 1 | 5/60 | 83
SARS Screening form | Health care workers | 330 | 1 | 10/60 | 55
Health Care Worker exposure form | Health care workers | 500 | 1 | 20/60 | 167
Unprotected HCW form | Health care workers | 500 | 1 | 20/60 | 167
SARS Case Report Intake form | Health care workers/epidemiologists | 750 | 1 | 1 | 45,000
Total |  |  |  |  | 45,972

Dated: August 28, 2003.
Nancy E. Cheal,
Acting Associate Director for Policy, Planning and Evaluation, Centers for Disease Control and Prevention.

[FR Doc. 03-22618 Filed 9-4-03; 8:45 am]

BILLING CODE 4163-18-P